DEPARTMENT OF DEFENSE

Office of the Secretary

Defense Business Practice Implementation Board; Notice of Advisory Committee Meeting

AGENCY: Department of Defense.

ACTION: Notice of advisory committee meeting.

SUMMARY: The Defense Business Practice Implementation Board (DBB) met on Thursday, November 20, 2003, at the Pentagon, Washington, DC from 0815 until 0940. The mission of the DBB is to advise the Senior Executive Council (SEC) and the Secretary of Defense on effective strategies for implementation of best business practices of interest to the Department of Defense. At this meeting, the Board's Human Resources (Minority Representation in Senior DoD Ranks) and Acquisition (Fuel Hedging) task groups deliberated on their preliminary findings related to tasks assigned earlier this year.

DATES: Thursday, November 20, 2003, 0815 to 0940 hrs.

ADDRESSES: Pentagon, Washington, DC.

FOR FURTHER INFORMATION CONTACT: The DBB may be contacted at: Defense Business Practice Implementation Board, 1100 Defense Pentagon, Room 2E314, Washington, DC 20301-1100, via E-mail at DBB@osd.pentagon.mil, or via phone at (703) 695-0499.

Dated: November 14, 2003.
Patricia L. Toppings,
Alternate OSD Federal Register Liaison Officer, Department of Defense.

[FR Doc. 03-30033 Filed 12-2-03; 8:45 am]

BILLING CODE 5001-06-M